DEPARTMENT OF TRANSPORTATION

Federal Railroad Administration

[Docket Number FRA-2019-0036]

Petition for Waiver of Compliance

Under part 211 of title 49 Code of Federal Regulations (CFR), this document provides the public notice that on April 2, 2019, the Georgetown Loop Railroad (GLR) petitioned the Federal Railroad Administration (FRA) for a waiver of compliance from certain provisions of the Federal railroad safety regulations contained at 49 CFR 230.112 (Wheels and tires) and § 230.113 (Wheels and tire defects) for one steam locomotive used in tourist/excursion service. FRA assigned the petition Docket Number FRA-2019-0036.

Specifically, GLR requests relief from §§ 230.112 and 230.113 to allow Locomotive Number GLR 12 to be maintained to Baldwin Locomotive Works (BLW) standards for narrow-gage locomotives. GLR 12 was built in 1927, and is a 36-inch narrow gage locomotive. GLR 12 was used on a shortline in freight and passenger service until its retirement in the 1950s. It was subsequently sold to private individuals and moved to California to be used on various tourist/excursion trains. In the 1980s, a new boiler was installed and extensive repairs were made to the running gear. It was used frequently throughout the 1990s at the Silver Wood Amusement Park until its sale to the Colorado Historical Society in 2005 and was in service on GLR from 2005-2007.

By letter on April 7, 2008, FRA brought GLR under the agency's jurisdiction. During an inspection of the entire locomotive, it was determined that the inside gage (back-to-back spacing) exceeds the safety limits under 49 CFR 230.112(b). The actual width of the locomotive is 33½ inches. The allowable range is 32½ to 32⅞ inches wide. The locomotive was built to BLW's narrow-gage standards, which allow wider back-to-back dimensions and narrower flange widths for narrow gage engines. These alternate standard dimensions were primarily used in areas with prevalent sharp curves and poor track conditions. In addition to the wider back-to-back dimension used by Baldwin, a narrow flange width (new) that measures 1½ inches is used versus the 1¾-inch flange, which is the standard Association of American Railroads narrow flange.

GLR also seeks relief from § 230.113(g) regarding the minimum thickness of the tire's flange. The requirement for condemning a flange for insufficient width is 15/16 of an inch based upon a new thickness of 1¾ inches. Because the new flange thickness on GLR 12's flanges was 1½ inches, GLR requests that the condemning limit for this locomotive be 13/16 of an inch based upon the reduced initial width. GLR states that it has safely operated this locomotive for several years without any wheel problems prior to coming under FRA's jurisdiction. GLR believes that there is no practical way to modify the chassis components to comply with the regulatory requirements as the basic design of the locomotive's brake and spring rigging and driving boxes will not allow the driving tires and wheels to be significantly modified.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal holidays.

Communications received by November 25, 2019 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-23302 Filed 10-24-19; 8:45 am]

BILLING CODE 4910-06-P